DEPARTMENT OF HOMELAND SECURITY

Transportation Security Administration

[Docket No. TSA-2003-15901]

Privacy Act of 1974: System of Records

AGENCY: Transportation Security Administration (TSA), DHS.

ACTION: Notice to establish new and altered systems of records; request for comments.

SUMMARY: The Transportation Security Administration is altering three systems of records and establishing six new systems of records under the Privacy Act of 1974.

DATES: Comments due on September 17, 2003.

ADDRESSES: Address your comments to the Docket Management System, U.S. Department of Transportation, Room Plaza 401, 400 Seventh Street, SW., Washington, DC 20590-0001. You must identify the docket number TSA-2003-15901 at the beginning of your comments, and you should submit two copies of your comments. If you wish to receive confirmation that TSA received your comments, include a self-addressed, stamped postcard.

You may also submit comments through the Internet at http://dms.dot.gov. Please be aware that anyone is able to search the electronic form of all comments received into any of these dockets by the name of the individual submitting the comment (or signing the comment, if submitted on behalf of an association, business, labor union, etc.). You may review DOT's complete Privacy Act Statement in the Federal Register published on April 11, 2000 (Volume 65, Number 70; Pages 19477-78) or you may visit http://dms.dot.gov. You may also review the public docket containing comments in person at the Dockets Office between 9 a.m. and 5 p.m., Monday through Friday, except Federal holidays. The Dockets Office is on the plaza level of the NASSIF Building at the Department of Transportation at the above address.

FOR FURTHER INFORMATION CONTACT: Conrad Huygen, Privacy Act Officer, TSA Office of Information Management Programs, TSA Headquarters, West Tower, 4th Floor (412S), 601 S. 12th Street, Arlington, VA 22202-4220; telephone (571) 227-1954; facsimile (571) 227-2912.

SUPPLEMENTARY INFORMATION:

Background

Prior to March 1, TSA was an operating administration within the Department of Transportation (DOT). While part of the DOT, TSA established three Privacy Act systems of records. See 67 FR 77311, Dec. 17, 2002. As of March 1, 2003, TSA became a component of the Department of Homeland Security (DHS) and is now required to republish its established systems and new systems under DHS. TSA is republishing its established systems, with modifications to the routine uses section of each. TSA is also establishing six new systems.

DHS/TSA 001

SYSTEM NAME:

Transportation Security Enforcement Record System (TSERS)

Security classification:

Classified, sensitive.

System location:

Records are maintained in the Office of Chief Counsel and in the Office of the Assistant Administrator for Aviation Operations, Transportation Security Administration (TSA) Headquarters in Arlington, Virginia. Records will also be maintained at the various TSA field offices.

Categories of individuals covered by the system:

Owners, operators, and employees in all modes of transportation for which TSA has security-related duties; witnesses; passengers undergoing screening of their person or property; and individuals against whom investigative, administrative, or legal enforcement action has been initiated for violation of certain Transportation Security Administration Regulations (TSR), relevant provisions of 49 U.S.C. Chapter 449, or other laws.

Categories of records in the system:

Information related to the screening of passengers and property and the investigation or prosecution of any alleged violation, including name of and demographic information about alleged violators and witnesses; place of violation; Enforcement Investigative Reports (EIRs); security incident reports, screening reports, suspicious-activity reports and other incident or investigative reports; statements of alleged violators and witnesses; proposed penalty; investigators' analyses and work papers; enforcement actions taken; findings; documentation of physical evidence; correspondence of TSA employees and others in enforcement cases; pleadings and other court filings; legal opinions and attorney work papers.

Authority for maintenance of the system:

49 U.S.C. 114(d), 44901, 44903, 44916, 46101, 46301.

Purposes:

The records are created in order to maintain a civil enforcement and inspections system for all modes of transportation for which TSA has security related duties. They may be used, generally, to identify, review, analyze, investigate, and prosecute violations or potential violations of transportation security laws. They may also be used to record the details of TSA security-related activity, such as passenger or baggage screening.

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers when necessary to perform a function or service related to this system of records for which they have been engaged. Such recipients are required to comply with the Privacy Act, 5 U.S.C. 552a, as amended.

(4) To a Federal, State, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To international and foreign governmental authorities in accordance with law and formal or informal international agreement.

(9) To third parties during the course of an investigation into violations or potential violations of transportation security laws to the extent necessary to obtain information pertinent to the investigation.

(10) To airport operators, aircraft operators, and maritime and land transportation operators about individuals who are their employees, job applicants, or contractors, or persons to whom they issue identification credentials or grant clearances to secured areas in transportation facilities when relevant to such employment, application, contract, or the issuance of such credentials or clearances.

(11) To the Department of Justice (DOJ) in review, settlement, defense, and prosecution of claims, complaints, and lawsuits involving matters over which TSA exercises jurisdiction.

(12) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(13) To a congressional office from the record of an individual in response to an inquiry from that congressional office made at the request of the individual.

(14) To the General Services Administration and the National Archives and Records Administration in records management inspections being conducted under the authority of 44 U.S.C. 2904 and 2906.

(15) To the Attorney General of the United States or his/her official designee, when information indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

(16) To the news media in accordance with the guidelines contained in 28 CFR 50.2, which relate to civil and criminal proceedings.

(17) To any agency or instrumentality charged under applicable law with the protection of the public health or safety under exigent circumstances where the public health or safety is at risk.

(18) To the Department of Justice, United States Attorney's Office, or other Federal agencies for further collection action on any delinquent debt when circumstances warrant.

(19) To a debt collection agency for the purpose of debt collection.

Disclosure to consumer reporting agencies:

Privacy Act information may be reported to consumer reporting agencies pursuant to 5 U.S.C. 552a(b)(12) collecting on behalf of the United States Government.

Policies and practices for storing, retrieving, accessing, retaining, and disposing of records in the system:

Storage:

Records are maintained on paper and in computer-accessible storage media. Records are also stored on microfiche and roll microfilm.

Retrievability:

Records are retrieved by name, address, social security account number, administrative action or legal enforcement numbers, or other assigned identifier of the individual on whom the records are maintained.

Safeguards:

Information in this system is safeguarded in accordance with applicable laws, rules and policies. All records are protected from unauthorized access through appropriate administrative, physical, and technical safeguards. These safeguards include restricting access to authorized personnel who also have a need-to-know; using locks, alarm devices, and passwords; and encrypting data communications. Strict control measures are enforced to ensure that access to classified and/or sensitive information in these records is also based on “need to know.” Electronic access is limited by computer security measures that are strictly enforced. TSA file areas are locked after normal duty hours and the facilities are protected from the outside by security personnel.

Retention and disposal:

National Archives and Records Administration approval is pending for the records in this system. Paper records and information stored on electronic storage media are maintained within TSA for five years and then forwarded to Federal Records Center. Records are destroyed after ten years.

System manager and address:

Information Systems Program Manager, Office of the Chief Counsel, TSA Headquarters, West Tower, 8th Floor, TSA-2, 601 S. 12th Street, Arlington, VA 22202-4220.

Notification procedure:

To determine whether this system contains records relating to you, write to the System Manager identified above.

Record access procedure:

Same as “Notification Procedures” above. Provide your full name and a description of information that you seek, including the time frame during which the record(s) may have been generated. Individuals requesting access must comply with the Department of Homeland Security Privacy Act regulations on verification of identity (6 CFR 5.21(d)).

Contesting record procedures:

Same as “Notification Procedure,” and “Record Access Procedures” above.

Record source categories:

Information contained in this system is obtained from the alleged violator, TSA employees or contractors, witnesses to the alleged violation or events surrounding the alleged violation, other third parties who provided information regarding the alleged violation, state and local agencies, and other Federal agencies.

Exemptions claimed for the system:

Portions of this system are exempt under 5 U.S.C. 552a(k)(1) and (k)(2).

DHS/TSA 002

System name:

Transportation Workers Employment Investigations System (TWEI).

Security classification:

Classified, Sensitive.

System location:

Records are maintained at the offices of the Transportation Security Administration (TSA) Headquarters in Arlington, Virginia. Some records may also be maintained at the offices of a TSA contractor, or in TSA field offices.

Categories of individuals covered by the system:

(a) Individuals who require or seek access to airport secured or sterile areas; have unescorted access authority to a security identification display area (SIDA); have authority to grant others unescorted access to a SIDA; are seeking unescorted access authority to a SIDA; are seeking to have authority to grant others unescorted access to a SIDA; have regular escorted access to a SIDA; or are seeking regular escorted access to a SIDA.

(b) Individuals who have or are seeking responsibility for screening passengers or carry-on baggage, and those persons serving as immediate supervisors and the next supervisory level to those individuals, other than employees of the TSA who perform or seek to perform these functions.

(c) Individuals who have or are seeking responsibility for screening checked baggage or cargo, and their immediate supervisors, other than employees of the TSA who perform or seek to perform these functions.

(d) Individuals who have or are seeking the authority to accept checked baggage for transport on behalf of an aircraft operator that is required to screen passengers.

(e) Pilots, flight engineers, flight navigators, and flight attendants assigned to duty in an aircraft during flight time for an aircraft operator that is required to adopt and carry out a security program.

(f) Individuals who have or are seeking access to a transportation facility in the maritime or land transportation system.

(g) Other individuals who are connected to the transportation industry for whom TSA conducts background investigations to ensure transportation security.

Categories of records in the system:

TSA's system may contain any or all of the following: (a) Name; (b) address; (c) social security number; (d) date of birth; (e) name and submitting office number of the airport, aircraft operator, or maritime or land transportation operator submitting the individual's information; (f) control number associated with identification credential; (g) OPM case number; (h) other data as required by Form FD 258 (fingerprint card); (i) dates of submission and transmission of the information, as necessary to assist in tracking submissions, payments, and transmission of records; (j) identification records obtained from the Federal Bureau of Investigation (FBI), which are compilations of criminal history record information pertaining to individuals who have criminal fingerprints maintained in the FBI's Fingerprint Identification Records System (FIRS); (k) data gathered from foreign governments that are necessary to address security concerns in the aviation, maritime, or land transportation systems; (l) information provided by the Central Intelligence Agency; (m) other information provided by the information systems of other Federal, State, and local governmental agencies; and (n) fingerprint and/or other biometric identifier.

Authority for maintenance of the system:

49 U.S.C. 114, 5103a, 44936, 46105; Section 102, Pub. L. 107-295 (Maritime Transportation Security Act of 2002); Section 1012, Pub. L. 107-56 (USA PATRIOT Act).

Purpose(s):

(a) To facilitate the performance of secured access background checks and other employment investigations, including fingerprint-based criminal history records checks (CHRCs), which Federal law and TSA regulations require for the individuals identified in “Categories of individuals covered by the system” above.

(b) To assist in the management and tracking of the status of secured access background checks and other employment investigations.

(c) To permit the retrieval of the results of secured access background checks and other employment investigations, including criminal history records checks and searches in other governmental identification systems, performed on the individuals covered by this system.

(d) To permit the retrieval of information from other law enforcement and intelligence databases on the individuals covered by this system.

(e) To track the fees incurred and payment of those fees by the airport operators, aircraft operators, and maritime and land transportation operators for services related to the secured access background checks and other employment investigations.

(f) To facilitate the performance of other investigations that TSA may provide to ensure transportation security.

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers when necessary to perform a function or service related to this system of records for which they have been engaged. Such recipients are required to comply with the Privacy Act, 5 U.S.C. 552a, as amended.

(4) To a Federal, State, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To international and foreign governmental authorities in accordance with law and formal or informal international agreement.

(9) To third parties during the course of an investigation into violations or potential violations of transportation security laws to the extent necessary to obtain information pertinent to the investigation.

(10) To airport operators, aircraft operators, and maritime and land transportation operators about individuals who are their employees, job applicants, or contractors, or persons to whom they issue identification credentials or grant clearances to secured areas in transportation facilities when relevant to such employment, application, contract, or the issuance of such credentials or clearances.

(11) To the Office of Personnel Management (OPM), the FBI, and other government agencies, as necessary, to conduct the background check or employment investigation and to facilitate payment and accounting.

(12) To the Department of Justice (DOJ) in review, settlement, defense, and prosecution of claims, complaints, and lawsuits involving matters over which TSA exercises jurisdiction.

(13) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(14) To a congressional office from the record of an individual in response to an inquiry from that congressional office made at the request of the individual.

(15) To the General Services Administration and the National Archives and Records Administration in records management inspections being conducted under the authority of 44 U.S.C. 2904 and 2906.

(16) To the Attorney General of the United States or his/her official designee, when information indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

Disclosure to consumer reporting agencies:

None.

Policies and practices for storing, retrieving, accessing, retaining, and disposing of records in the system:

Storage:

In electronic storage media and hard copy.

Retrievability:

Information can be retrieved by name, social security number, submitting office number (SON), OPM case number, or other unique number assigned to the individual.

Safeguards:

All records are protected from unauthorized access through appropriate administrative, physical, and technical safeguards. These safeguards include restricting access to those authorized with a need-to-know; using locks, alarm devices, and passwords; and encrypting data communications.

Retention and disposal:

National Archives and Records Administration approval is pending for the records in this system.

System manager(s) and address:

Director of the Credentialing Program Office, TSA Headquarters, East Tower, 11th Floor, 601 S. 12th Street, Arlington, VA 22202-4220.

Notification procedure:

To determine whether this system contains records relating to you, write to the System Manager identified above.

Record access procedures:

Same as “Notification Procedures” above. Provide your full name and a description of information that you seek, including the time frame during which the record(s) may have been generated. Individuals requesting access must comply with the Department of Homeland Security Privacy Act regulations on verification of identity (6 CFR 5.21(d)).

Contesting record procedures:

Same as “Notification Procedures,” and “Record Access Procedures” above.

Record source categories:

Information is collected from individuals subject to a secured access background check or other employment investigation and from aviation, maritime, and land transportation operators. Information is also collected from domestic and international intelligence sources, including the Central Intelligence Agency, and other governmental, private and public databases. The sources of information in the criminal history records obtained from the FBI are set forth in the Privacy Act system of records notice “JUSTICE/FBI-009.”

Exemptions claimed for the system:

Portions of this system are exempt under 5 U.S.C. 552a(k)(1) and (k)(2).

DHS/TSA 004

System Name:

Personnel Background Investigation File System

Security classification:

Classified, Sensitive.

System location:

Records are maintained at the offices of the Transportation Security Administration Headquarters located in Arlington, Virginia. Some records may also be maintained at the offices of a TSA contractor, or in TSA field offices.

Categories of individuals covered by the system:

Current and former TSA employees, applicants for TSA employment, and TSA contract employees.

Categories of records in the system:

The system contains an index reference record used to track the status of an applicant's background investigation, Standard Form 85P—“Questionnaire For Public Trust Positions,” investigative summaries and compilations of criminal history record checks, and administrative records and correspondence incidental to the background investigation process.

Authority for maintenance of the system:

5 U.S.C. 3301, 3302; 49 U.S.C. 114, 44935; 5 CFR parts 731, 732, and 736; and Executive Orders 10450, 10577, and 12968.

Purpose(s):

The system will maintain investigative and background records used to make suitability and eligibility determinations for the individuals listed under “Categories of individuals.”

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) Except as noted in Question 14 of the Questionnaire for Public Trust Positions, to the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers when necessary to perform a function or service related to this record for which they have been engaged. Such recipients shall be required to comply with the Privacy Act, 5 U.S.C. 552a, as amended.

(4) To a Federal, State, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To international and foreign governmental authorities in accordance with law and formal or informal international agreement.

(9) To third parties during the course of an investigation into violations or potential violations of transportation security laws to the extent necessary to obtain information pertinent to the investigation.

(10) To airport operators, aircraft operators, and maritime and land transportation operators about individuals who are their employees, job applicants, or contractors, or persons to whom they issue identification credentials or grant clearances to secured areas in transportation facilities when relevant to such employment, application, contract, or the issuance of such credentials or clearances.

(11) To the Department of Justice (DOJ) in review, settlement, defense, and prosecution of claims, complaints, and lawsuits involving matters over which TSA exercises jurisdiction.

(12) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(13) To a congressional office from the record of an individual in response to an inquiry from that congressional office made at the request of the individual.

(14) To the General Services Administration and the National Archives and Records Administration in records management inspections being conducted under the authority of 44 U.S.C. 2904 and 2906.

(15) To the Attorney General of the United States or his/her official designee, when information indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

(16) To any agency or instrumentality charged under applicable law with the protection of the public health or safety under exigent circumstances where the public health or safety is at risk.

Disclosure to consumer reporting agencies:

None.

Policies and practices for storing, retrieving, accessing, retaining, and disposing of records in the system:

Storage:

Records are maintained on paper and in computer-accessible storage media. Records are also stored on microfiche and roll microfilm.

Retrievability:

Records are retrieved by name, address, and social security account number or other assigned tracking identifier of the individual on whom the records are maintained.

Safeguards:

Access to TSA working and storage areas is restricted to employees on a “need to know” basis. Strict control measures are enforced to ensure that access to these records is also based on “need to know.” Generally, TSA file areas are locked after normal duty hours and the facilities are protected from the outside by security personnel.

Retention and disposal:

Paper records and information stored on electronic storage are destroyed upon notification of death or not later than 5 years after separation or transfer of employee or no later than 5 years after contract relationship expires, whichever is applicable.

System manager and address:

Director of the Credentialing Program Office, TSA Headquarters, East Tower, 11th Floor, 601 S. 12th Street, Arlington, VA 22202-4220.

Notification procedure:

To determine whether this system contains records relating to you, write to the System Manager identified above.

Record access procedures:

Same as “Notification Procedures” above. Provide your full name and a description of information that you seek, including the time frame during which the record(s) may have been generated. Individuals requesting access must comply with the Department of Homeland Security Privacy Act regulations on verification of identity (6 CFR 5.21(d)).

Contesting record procedures:

Same as “Notification Procedure,” and “Record Access Procedures” above.

Record source categories:

Information contained in this system is obtained from the job applicant on the Questionnaire For Public Trust Positions, law enforcement and intelligence agency record systems, publicly available government records and commercial data bases.

Exemptions claimed for the system:

Portions of this system are exempt under 5 U.S.C. 552a(k)(5).

DHS/TSA 005

System name:

Internal Investigation Record System (IIRS)

Security classification:

Classified, sensitive.

System location:

Records are maintained in the Office of the Assistant Administrator for Internal Affairs and Program Review, Transportation Security Administration (TSA) Headquarters in Arlington, Virginia. Records may also be maintained at TSA's Office of Chief Counsel, the Office of the Assistant Administrator for Aviation Operations, or at various TSA field offices.

Categories of individuals covered by the system:

(a) Current and former TSA employees and current and former consultants, contractors, and subcontractors with whom the agency has done business, and their employees; (b) Witnesses, complainants, and other individuals who have been identified as relevant to the investigation.

Categories of records in the system:

(a) Information relating to investigations, including identifying information related to the parties to the investigation (e.g., subject, complainants, witnesses); correspondence; memoranda (including legal opinions or advice provided by agency counsel); statements and other information provided by investigation subjects, complainants, witnesses, or others; and details of alleged criminal, civil, or administrative misconduct, or otherwise indicative of such misconduct, by TSA employees.

(b) Investigative files and reports prepared by the Office of Internal Affairs and Program Review, to include all related material such as exhibits, statements, affidavits, records obtained during the course of the investigation (including those obtained from other sources, such as Federal, State, local, international, or foreign investigatory or law enforcement agencies and other government agencies), and records involving the disposition of the investigation and any resulting agency action (e.g., criminal prosecutions, civil proceedings, administrative action).

Authority for maintenance of the system:

49 U.S.C. 114.

Purposes:

(a) To facilitate and assist in the management, tracking, and retrieval of investigations of allegations or appearances of misconduct (and related incidents) of current or former TSA employees or contractors.

(b) To promote economy, efficiency, and effectiveness of the Internal Investigation system, to conduct and supervise investigations covered by this system, and to detect fraud and abuse in the investigations program.

(c) To provide support for any adverse action that may occur as a result of the findings of the investigation.

(d) To monitor case assignment, disposition, status, and results of investigations.

(e) To permit the retrieval of investigation results performed on the individuals covered in this system.

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers when necessary to perform a function or service related to this system of records for which they have been engaged. Such recipients are required to comply with the Privacy Act, 5 U.S.C. 552a, as amended.

(4) To a Federal, State, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To international and foreign governmental authorities in accordance with law and formal or informal international agreement.

(9) To third parties during the course of an investigation into violations or potential violations of transportation security laws to the extent necessary to obtain information pertinent to the investigation.

(10) To airport operators, aircraft operators, and maritime and land transportation operators about individuals who are their employees, job applicants, or contractors, or persons to whom they issue identification credentials or grant clearances to secured areas in transportation facilities when relevant to such employment, application, contract, or the issuance of such credentials or clearances.

(11) To the Department of Justice (DOJ) in review, settlement, defense, and prosecution of claims, complaints, and lawsuits involving matters over which TSA exercises jurisdiction.

(12) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(13) To a congressional office from the record of an individual in response to an inquiry from that congressional office made at the request of the individual.

(14) To the General Services Administration and the National Archives and Records Administration in records management inspections being conducted under the authority of 44 U.S.C. 2904 and 2906.

(15) To the Attorney General of the United States or his/her official designee, when information indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

(16) To complainants to the extent necessary to provide such persons with relevant information and explanations concerning the progress and/or results of the investigation or case arising from the matters about which they complained.

(17) To professional organizations or associations with which individuals covered by this system of records may be affiliated, such as law enforcement disciplinary authorities, to meet those organizations' responsibilities in connection with the administration and maintenance of standards of conduct and discipline.

DISCLOSURE TO CONSUMER REPORTING AGENCIES:

None.

Policies and practices for storing, retrieving, accessing, retaining, and disposing of records in the system:

Storage:

In electronic storage media and hard copy.

Retrievability:

Records are retrieved by name, a unique number assigned by the Office of Internal Affairs and Program Review, or other assigned tracking identifier of the individual on whom the records are maintained.

Safeguards:

Information in this system is safeguarded in accordance with applicable laws, rules and policies. All records are protected from unauthorized access through appropriate administrative, physical, and technical safeguards. These safeguards include restricting access to those authorized with a need to know and using locked cabinets, alarms, and passwords. TSA file areas are locked after normal duty hours and the facilities are protected from the outside by security personnel.

Retention and disposal:

National Archives and Records Administration approval is pending for the records in this system. The request states that paper records and information stored on electronic storage media are maintained within the Office of Internal Affairs and Program Review for 3 years and then forwarded to the Federal Records Center. Records are destroyed after 15 years.

System manager and address:

Management Analyst, Office of Internal Affairs and Program Review, TSA Headquarters, West Tower, 3rd Floor, TSA-13, 601 S. 12th Street, Arlington, VA 22202-4220.

Notification procedure:

To determine whether this system contains records relating to you, write to the System Manager identified above.

Record access procedure:

Same as “Notification Procedures” above. Provide your full name and a description of information that you seek, including the time frame during which the record(s) may have been generated. Individuals requesting access must comply with the Department of Homeland Security's Privacy Act regulations on verification of identity (6 CFR 5.21(d)).

Contesting record procedures:

Same as “Notification Procedure” and “Record Access Procedure,” above.

Record source categories:

Information maintained in this system is primarily obtained from individuals associated with the investigation of alleged misconduct of TSA employees or contractors, to include the employee, other TSA employees or contractors, witnesses to the alleged violation or events surrounding the alleged misconduct, or other third parties who provided information regarding the alleged misconduct. Information may also be collected from documents such as incident reports and audit reports, and from other sources, such as law enforcement, financial institutions, employers, state and local agencies, and other Federal agencies.

Exemptions claimed for the system:

Portions of this system are exempt under 5 U.S.C. 552a(k)(1) and (k)(2).

DHS/TSA 006

System name:

Correspondence and Matters Tracking Records (CMTR)

Security classification:

Sensitive, Classified.

System location:

Records are maintained at Transportation Security Administration (TSA) Office of the Executive Secretariat, TSA Headquarters in Arlington, Virginia. Records may also be located at the Office of Legislative Affairs, and the Office of the Ombudsman (which includes the Consumer Response Center (CRC)), to the extent those offices maintain matter tracking information. Records may also be maintained in other offices at TSA Headquarters and at the various TSA field offices.

Categories of individuals covered by the system:

To the extent not covered by any other system, this system covers individuals who submit inquiries, comments, complaints, or claims to TSA in writing, in person, or by telephone, for response and resolution and those with any matter pending before TSA. This includes TSA employees, Members of Congress and their staff, officers and employees of other Executive branch agencies and the White House, tort and property claimants who have filed claims against the Government or TSA, stakeholders, passengers in transportation, and members of the public.

Categories of records in the system:

Correspondence and information related thereto, including name, address, and telephone number of individuals contacting TSA; records of contacts made by or on behalf of individuals, including inquiries, comments, complaints, resumes and letters of reference; staff reports; TSA's responses to correspondence and calls; and staff recommendations on actions requiring approval or action by a TSA official. The system also includes records, including those prepared by TSA employees, related to matters under consideration by TSA.

Authority for maintenance of the system:

49 U.S.C. 114; 5 U.S.C. 301.

Purposes:

(a) To facilitate and assist in the management, tracking, retrieval, and response to incoming correspondence, inquiries, claims, and complaints associated with all subject matters over which TSA exercises jurisdiction.

(b) To monitor assignment, disposition, status, and results of correspondence, inquiries, claims, and complaints sent to TSA and, generally, to review, analyze, investigate, and study trends identified by the concerns expressed.

(c) To facilitate and assist in the management, tracking, and retrieval of information associated with matters and issues under consideration by TSA.

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or nternational agency responsible for investigating, prosecuting, enforcing, or implementing a statute, rule, regulation, or order, where TSA becomes aware of an indication of a violation or potential violation of civil or criminal law or regulation.

(3) To contractors, grantees, experts, consultants, or volunteers when necessary to perform a function or service related to this system of records for which they have been engaged. Such recipients are required to comply with the Privacy Act, 5 U.S.C. 552a, as amended.

(4) To a Federal, State, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To international and foreign governmental authorities in accordance with law and formal or informal international agreement.

(9) To third parties during the course of an investigation into violations or potential violations of transportation security laws to the extent necessary to obtain information pertinent to the investigation.

(10) To airport operators, aircraft operators, and maritime and land transportation operators about individuals who are their employees, job applicants, or contractors, or persons to whom they issue identification credentials or grant clearances to secured areas in transportation facilities when relevant to such employment, application, contract, or the issuance of such credentials or clearances.

(11) To the Department of Justice (DOJ) in review, settlement, defense, and prosecution of claims, complaints, and law suits involving matters over which TSA exercises jurisdiction.

(12) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(13) To a congressional office from the record of an individual in response to an inquiry from that congressional office made at the request of the individual.

(14) To the General Services Administration and the National Archives and Records Administration in records management inspections being conducted under the authority of 44 U.S.C. 2904 and 2906.

(15) To the Attorney General of the United States or his/her official designee, that indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

(16) To the DOJ, United States Attorney's Office, or other federal agencies for further collection action on any delinquent debt when circumstances warrant.

(17) To a debt collection agency for the purpose of debt collection.

Disclosure to consumer reporting agencies:

Privacy Act information may be reported to consumer reporting agencies pursuant to 5 U.S.C. 552a(b)(12) for the purpose of collecting a debt on behalf of the United States Government.

Policies and practices for storing, retrieving, accessing, retaining, and disposing of records in the system:

Storage:

In electronic storage media and hard copy. Records that are sensitive or classified are safeguarded in accordance with agency procedures, and applicable Executive Orders and statutes.

Retrievability:

Records are retrieved by name, social security account number or other assigned identifier of an individual covered by this system.

Safeguards:

Information in this system is safeguarded in accordance with applicable laws, rules and policies. All records are protected from unauthorized access through appropriate administrative, physical, and technical safeguards. These safeguards include restricting access to authorized personnel who have a need-to-know and password protection identification features. TSA file areas are locked after normal duty hours and the facilities are protected from the outside by security personnel.

Retention and disposal:

A request is pending for National Archives and Records Administration approval for the retention and disposal of records in this system.

System manager and address:

Director, Office of the Executive Secretariat, TSA Headquarters, West Tower, 12th Floor, 1206S, 601 S. 12th Street, Arlington, VA 22202-4220.

Notification procedure:

To determine whether this system contains records relating to you, write to the System Manager identified above.

Record access procedure:

Same as “Notification Procedure” above. Provide your full name and the description of the information that you seek, including the time frame during which the record(s) may have been generated. Individuals requesting access must comply with the Department of Homeland Security's Privacy Act regulations on verification of identity. (6 CFR 5.21(d)).

Contesting record procedures:

Same as “Notification Procedure” and “Record Access Procedure” above.

Record source categories:

Information contained in this system is obtained from calls and correspondence from or on behalf of individuals who contact TSA with inquiries, comments, complaints, or claims, as well as from TSA employees or contractors and witnesses, and other third parties who provide pertinent information where applicable. Information may also be collected from documents such as records of the contact made with TSA, incident reports, and from other sources, such as employers, state and local agencies, other Federal agencies, and related material for background as appropriate.

Exemptions claimed for the system:

Portions of this system are exempt under 5 U.S.C. 552a(k)(1) and (k)(2).

DHS/TSA 007

System name:

Freedom of Information Act and Privacy Act Record System.

Security classification:

Classified, sensitive.

System location:

This system of records is located in the Freedom of Information Act Office, Office of Law Enforcement and Security Liaison, Transportation Security Administration (TSA) Headquarters in Arlington, Virginia. Records will also be maintained at various TSA field offices.

Categories of individuals covered by the system:

All individuals who submit Freedom of Information Act (FOIA) and Privacy Act (PA) requests to TSA; individuals whose requests and/or records have been referred to TSA by other agencies; and in some instances, attorneys or other persons representing individuals submitting such requests and appeals, individuals who are the subjects of such requests, and/or TSA personnel assigned to handle such requests or appeals.

Categories of records in the system:

Records received, created, or compiled in response to FOIA/PA requests or appeals, including: the original requests and administrative appeals; intra- or inter-agency memoranda, correspondence, notes and other documentation related to the processing of the FOIA/PA request; correspondence with the individuals or entities that submitted the requested records, including when those records might contain confidential business information or personal information; and copies of the requested records. Types of information in the records may include: requesters' and their attorneys' or representatives' names, addresses, telephone numbers, and TSA FOIA case numbers; names, office telephone numbers, and office routing symbols of TSA employees; and names, telephone numbers, and addresses of the submitter of the information requested.

Authority for maintenance of the system:

5 U.S.C. 301; 5 U.S.C. 552; 5 U.S.C. 552a; 44 U.S.C. 3101.

Purposes:

The system is maintained for the purpose of processing access requests and administrative appeals under the FOIA and access and amendment requests and appeals under the PA; for the purpose of participating in litigation arising from such requests and appeals; and for the purpose of assisting TSA in carrying out any other responsibilities under the FOIA or the PA.

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers when necessary to perform a function or service related to this system of records for which they have been engaged. Such recipients are required to comply with the Privacy Act, 5 U.S.C. 552a, as amended.

(4) To a Federal, State, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, territorial, tribal, local, international, or foreign agency or entity for the purpose of consulting with that agency or entity to assist TSA to make a determination regarding access to or amendment of information, or for the purpose of verifying the identity of an individual or the accuracy of information submitted by an individual who has requested access to or amendment of information.

(7) To a Federal agency or entity that furnished the record or information for the purpose of permitting that agency or entity to make a decision regarding access to or correction of the record or information, or to a federal agency or entity for purposes of providing guidance or advice regarding the handling of particular requests.

(8) To the Department of Justice (DOJ) in review, settlement, defense, and prosecution of claims, complaints, and law suits involving matters over which TSA exercises jurisdiction.

(9) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(10) To a congressional office from the record of an individual in response to an inquiry from that congressional office made at the request of the individual.

(11) To the General Services Administration and the National Archives and Records Administration in records management inspections being conducted under the authority of 44 U.S.C. 2904 and 2906.

(12) To the DOJ, United States Attorney's Office, or other federal agencies for further collection action on any delinquent debt when circumstances warrant.

(13) To a debt collection agency for the purpose of debt collection.

(14) To the submitter or subject of a record or information to assist TSA in making a determination as to access or amendment.

Disclosure to consumer reporting agencies:

Privacy Act information may be reported to consumer reporting agencies pursuant to 5 U.S.C. 552a(b)(12), for the purpose of collecting a debt on behalf of the United States.

Policies and practices for storing, retrieving, accessing, retaining, and disposing of records in the system:

Storage:

Records in this system are on paper and/or in electronic form.

Retrievability:

Records are retrieved by the name of the requester/appellant or the attorney or other individual representing the requester, or other identifier assigned to the request or appeal.

Safeguards:

Information in this system is safeguarded in accordance with applicable laws, rules and policies. All records are protected from unauthorized access through appropriate administrative, physical, and technical safeguards. These safeguards include restricting access to authorized personnel who have a need-to-know; using locks, and password protection identification features. Classified information is appropriately stored in accordance with applicable requirements. TSA file areas are locked after normal duty hours and the facilities are protected from the outside by security personnel.

Retention and disposal:

Records are retained and disposed of in accordance with the National Archives and Records Administration's General Records Schedule 14. Files may be retained from 2 to 6 years, depending on the type of file. For requests that result in litigation, the files related to that litigation will be retained for 3 years after final court adjudication.

System manager and address:

Associate Director, Freedom of Information/Privacy Act Division, Office of Law Enforcement & Security Liaison, TSA Headquarters, West Tower, 10th Floor, TSA-20, 601 S. 12th Street, Arlington, VA 22202-4220.

Notification procedure:

To determine whether this system contains records relating to you, write to the System Manager identified above.

Record access procedures:

Same as “Notification Procedures” above. Provide your full name and a description of information that you seek, including the time frame during which the record(s) may have been generated. Individuals requesting access must comply with the Department of Homeland Security's Privacy Act regulations on verification of identity (6 CFR 5.21(d)).

Contesting record procedures:

Same as “Notification Procedure” and “Record Access Procedures” above.

Record source categories:

Information contained in this system is obtained from those individuals who submit requests and administrative appeals pursuant to the FOIA and the PA; the agency records searched and identified as responsive in the process of responding to such requests and appeals; Departmental personnel assigned to handle such requests and appeals; other agencies or entities that have referred to TSA requests concerning TSA records, or that have consulted with TSA regarding handling of particular requests; and submitters or subjects of records or information that have provided assistance to TSA in making access or amendment determinations.

Exemptions claimed for the system:

Portions of this system are exempt under 5 U.S.C. 552a(k)(1) and (k)(2).

DHS/TSA 009

System name:

General Legal Records (GLR).

Security classification:

Sensitive, classified.

System location:

This system of records is located in the Office of the Chief Counsel, Transportation Security Administration (TSA) Headquarters in Arlington, Virginia. Records will also be maintained at various TSA field offices.

Categories of individuals covered by the system:

TSA employees and former employees, other Federal agency employees, members of the public, individuals involved in litigation with TSA or involving TSA, witnesses, and to the extent not covered by any other system, tort and property claimants who have filed claims against the Government and individuals who are the subject of an action requiring approval or action by a TSA official, such as appeals, actions, training, awards, foreign travel, promotions, selections, grievances, delegations, etc.

Categories of records in the system:

To the extent not covered by another system, records relating to litigation by or against the U.S. Government (or litigation in which the U.S. Government is not a party, but has an interest) resulting from questions concerning TSA authority, criminal actions, claims, torts, employment and sex discrimination, Rehabilitation Act, personnel matters, contracts, foreclosures, actions against TSA officials, criminal actions, titles to real property, other civil matters, and records relating to requests for TSA records or the testimony of TSA employees in state law criminal or civil litigation in which TSA is not a party. Included are statements of claims, documentary evidence, copies of condemnation or foreclosure proceedings and decisions, lists of witnesses, supporting documents, correspondence, legal opinions and memoranda and related records. The system also includes claims by or against the Government, other than litigation cases, arising from a transaction with TSA, and documents related thereto, including demographic information, vouchers, witness statements, legal decisions, and related material pertaining to such claims.

Authority for maintenance of the system:

5 U.S.C. 301; 5 U.S.C 7301; 5 U.S.C. 7501; 28 U.S.C. 1346(b), (c), 1402(b), 2401(b), 2412(c), 2671-80; 31 U.S.C. 3701, 3721; 42 U.S.C. 20003 et seq.; 44 U.S.C. 3101; 49 U.S.C. 114.

Purposes:

The system is maintained to assist attorneys in the Office of the Chief Counsel in providing legal advice to TSA management on a wide variety of legal issues; to respond to claims by employees, former employees, and other individuals; to assist in the settlement of claims against the government; to represent TSA during litigation, and to maintain internal statistics.

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers when necessary to perform a function or service related to this system of records for which they have been engaged. Such recipients are required to comply with the Privacy Act, 5 U.S.C. 552a, as amended.

(4) To a Federal, state, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To international and foreign governmental authorities in accordance with law and formal or informal international agreement.

(9) To third parties during the course of an investigation into violations or potential violations of transportation security laws to the extent necessary to obtain information pertinent to the investigation.

(10) To airport operators, aircraft operators, and maritime and land transportation operators about individuals who are their employees, job applicants, or contractors, or persons to whom they issue identification credentials or grant clearances to secured areas in transportation facilities when relevant to such employment, application, contract, or the issuance of such credentials or clearances.

(11) To the Department of Justice (DOJ) in review, settlement, defense, and prosecution of claims, complaints, and law suits involving matters over which TSA exercises jurisdiction.

(12) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(13) To a congressional office from the record of an individual in response to an inquiry from that congressional office made at the request of the individual.

(14) To the General Services Administration and the National Archives and Records Administration in records management inspections being conducted under the authority of 44 U.S.C. 2904 and 2906.

(15) To the Attorney General of the United States or his/her official designee, when information indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

(16) To the DOJ, United States Attorney's Office, or other federal agencies for further collection action on any delinquent debt when circumstances warrant.

(17) To a debt collection agency for the purpose of debt collection.

Disclosure to consumer reporting agencies:

Privacy Act information may be reported to consumer reporting agencies pursuant to 5 U.S.C. 552a(b)(12) collecting on behalf of the United States Government.

Policies and practices for storing, retrieving, accessing, retaining, and disposing of records in the system:

Storage:

Records in this system are on paper and/or in electronic form. Records that are classified are stored in accordance with applicable executive orders and statutes.

Retrievability:

Records are retrieved by the name of an individual or by a case number.

Safeguards:

Information in this system is safeguarded in accordance with applicable laws, rules and policies. All records are protected from unauthorized access through appropriate administrative, physical, and technical safeguards. These safeguards include restricting access to authorized personnel who have an official need for access in order to perform their duties and using locks and password protection identification features. Classified information is appropriately stored in secured safes in accordance with applicable requirements. During normal hours of operation, all records of the Office of the Chief Counsel are maintained in areas accessible only to authorized personnel of TSA. TSA file areas are locked after normal duty hours and the facilities are protected from the outside by security personnel.

Retention and disposal:

National Archives and Records Administration approval is pending for the records in this system. The records will be retained and disposed of in accordance with the applicable provisions of the records schedule for the Office of the Chief Counsel. Chief Counsel office files are generally retained from 3 to 15 years, depending on the type of file. Formal legal files and significant litigation files are retained permanently for eventual transfer to the National Archives of the United States.

System manager and address:

Director of Operations, Office of the Chief Counsel, TSA Headquarters, West Building, Floor 8, TSA-2 (Chief Counsel), 601 S. 12th Street, Arlington, VA 22202-4220.

Notification procedure:

To determine whether this system contains records relating to you, write to the System Manager identified above.

Record access procedures:

Same as “Notification Procedures” above. Provide your full name and a description of information that you seek, including the time frame during which the record(s) may have been generated. Individuals requesting access must comply with the Department of Homeland Security's Privacy Act regulations on verification of identity (6 CFR 5.21(d)).

Contesting record procedures:

Same as “Notification Procedure,” and “Record Access Procedures” above.

Record source categories:

Information in this system of records is obtained from Federal employees and former employees and other individuals involved in litigation or other action or matter in which TSA is a party or has an association. Information also is obtained from documents related to such litigation, action, or matter.

Exemptions claimed from the system:

Portions of this system are exempt under 5 U.S.C. 552a(k)(1) and (k)(2).

DHS/TSA 012

System name:

Transportation Worker Identification Credentialing (TWIC) System.

Security classification:

Unclassified.

System locations:

Various locations in the Philadelphia, PA/Delaware River and Los Angeles/Long Beach, California areas, including:

Los Angeles/Long Beach area

APL, 614 Terminal Way, Terminal Island, CA.

Crowley Marine Services, Inc., Berth 86, 300 S. Harbor Blvd, San Pedro, CA.

ICTF (Union Pacific Intermodal Container Transfer Facility), 2401 E. Sepulveda Blvd, Long Beach, CA.

LAX Security Badge Office, 7333 World Way West, Los Angeles, CA.

Long Beach Container Terminal, Inc., 1171 Pier F Avenue, Long Beach, CA.

Port of Long Beach, 925 Harbor Plaza, Long Beach, CA.

Port of Los Angeles, 425 S. Palos Verdes St., San Pedro, CA.

Philadelphia Area

Maritime Exchange for the Delaware River and Bay, 240 Cherry St., Philadelphia, PA.

Port of Wilmington, 1 Hausel Road, Wilmington, DE.

Packer Avenue Marine Terminal, Philadelphia, PA.

Holt Headquarters, P.O. Box 8268, Philadelphia, PA.

Beckett Street Marine Terminal, 2nd and Beckett Streets, Camden, NJ.

Philadelphia International Airport—Atlantic Aviation, Atlantic Aviation Services.

Philadelphia International Airport, 8375 Enterprise Ave., Philadelphia, PA.

Philadelphia North East Airport, 182 Pension Road, Philadelphia, PA.

Conoco Phillips Refinery, Trainer Refinery 4101 Post Road, Trainer, PA.

PMTA ILA Hiring Hall Profile, 3001 South Front Street, Philadelphia, PA.

Categories of individuals covered by the system:

Transportation workers and individuals, and/or authorized visitors, participating in the Technology Evaluation and Prototype Phase of the TWIC Program who are authorized unescorted entry to secure transportation areas.

Categories of records in the system:

This system will contain a minimum amount of computerized information during the technology evaluation and prototype phases of TSA's pilot project. It is anticipated that the following records will be created and maintained for the duration of the test: (1) Individual's name, (2) other demographic data to include: address, phone number, social security number, date of birth, and place of birth, (3) administrative identification codes, unique card serial number (4) systems identification codes, (5) company/organization or affiliation, (6) issue date, (7) biometric data and digital photograph, (8) access level information, and (9) expiration date.

Authorities for maintenance of the system:

49 U.S.C. 114; 49 U.S.C. 44903(g); 46 U.S.C. 70105.

Purpose(s):

In cooperation with transportation facility operators, to evaluate and test certain technologies and business processes in the technology evaluation and prototype phases of TSA's pilot project to develop a Transportation Workers Identification Credential to improve access control for transportation workers requiring unescorted access to secure areas of transportation facilities. Additionally, TSA will collect certain data elements to support the development and operation of site specific security plans at local transportation facilities.

Routine uses of records maintained in the system, including categories of users and the purposes of such uses:

(1) To the appropriate Federal, State, local, tribal, territorial, foreign, or international agency responsible for investigating, prosecuting, enforcing, or implementing a statute, rule, regulation, or order, where TSA becomes aware of an indication of a violation or potential violation of civil or criminal law or regulation.

(2) To a Federal, State, local, tribal, territorial, foreign, or international agency, where such agency has requested information relevant or necessary for the hiring or retention of an individual as an employee or a contractor, or the issuance of a security clearance or license.

(3) To a Federal, State, local, tribal, territorial, foreign, or international agency, if necessary to obtain information relevant to a TSA decision concerning the hiring or retention of an employee, the issuance of a security clearance, license, contract, grant, or other benefit.

(4) To a congressional office from the record of an individual in response to an inquiry from that congressional office made at the request of the individual.

(5) To international and foreign governmental authorities in accordance with law and formal or informal international agreement.

(6) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(7) To the General Services Administration and the National Archives and Records Administration in records management inspections being conducted under the authority of 44 U.S.C. 2904 and 2906.

(8) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(9) To TSA contractors, agents, grantees, experts, consultants, or volunteers when necessary to perform a function or service related to this system of records for which they have been engaged. Such recipients are required to comply with the Privacy Act, 5 U.S.C. 552a, as amended.

(10) To third parties during the course of an investigation into violations or potential violations of transportation security laws to the extent necessary to obtain information pertinent to the investigation.

(11) To airport operators, aircraft operators, and maritime and land transportation operators about individuals who are their employees, job applicants, or contractors, or persons to whom they issue identification credentials or grant clearances or access to secured areas in transportation facilities when relevant to such employment, application, contract, the issuance of such credentials or clearances, or access to such secure areas.

(12) To the Department of Justice (DOJ) in review, settlement, defense, and prosecution of claims, complaints, and law suits involving matters over which TSA exercises jurisdiction.

(13) To a Federal, State, local, tribal, territorial, foreign, or international agency, in response to queries regarding persons who may pose a risk to transportation or national security; a risk of air piracy or terrorism or a threat to airline or passenger safety; or a threat to aviation safety, civil aviation, or national security.

Policies and practices for storing, retrieving, accessing, retaining, and disposing of records in the system:

Storage:

Paper, bar code, magnetic stripe, optical memory stripe, disk, and integrated circuit chip.

Retrievability:

Data records contained within bar codes, magnetic stripe, optical memory stripe, disk, and/or the card's integrated circuit chip may be retrieved by the employees' name, unique card number, or organization; paper records, where applicable, are retrieved alphabetically by name.

Safeguards:

Unauthorized personnel are denied physical access to the location where records are stored. For computerized records, safeguards established in accordance with generally acceptable information security guidelines via use of security codes, passwords, Personal Identification Numbers (PINs), etc.

Retention and disposal:

Record disposition authority for these records is pending at the National Archives and Records Administration.

System manager(s) and address:

Director of the Credentialing Program Office, TSA Headquarters, East Tower, 11th Floor, 601 S. 12th Street, Arlington, VA 22202-4220.

Notification procedure:

To determine if a record exists, write to the system manager at the address indicated above and specify (1) individual's name, (2) employer, (3) address where originally enrolled into the TWIC system, and (4) date of enrollment. Individuals requesting access must comply with Department of Homeland Security's Privacy Act regulations on verification of identity (6 CFR 5.21(d)).

Record access procedures:

Same as notification procedure.

Contesting record procedures:

Contact the system manager named above and reasonably identify the record and specify the information to be contested. State the reason for contesting it (e.g., why it is inaccurate, irrelevant, incomplete, or not current).

Record source categories:

TSA obtains information in this system from the individuals who are covered by the system and their employers or the transportation facility.

Systems exempted from certain provisions of the act:

None.

DHS/TSA 013

System name:

Federal Flight Deck Officer Record System (FFDORS).

Security classification:

Classified, sensitive.

System location:

Federal Flight Deck Officer (FFDO) Program records are maintained at the offices of the Transportation Security Administration (TSA) Headquarters in Arlington, Virginia.

Categories of individuals covered by the system:

(1) All individuals who volunteer to participate in the FFDO program, (2) FFDO program participants, i.e., those volunteers who are accepted into the FFDO training program and deputized as FFDOs, and (3) former FFDO program participants.

Categories of records in the system:

This system includes all records required in connection with an individual's voluntary participation in the program, including records associated with FFDO application, selection, training, participation, retention and requalification. FFDORS includes records about individuals who applied but were not accepted into the program. Such records may include, but are not limited to the following: (a) Volunteer forms prepared by applicants for program participation containing such information as work history, education, military service, certificates of specialized training, awards and honors; (b) copies of correspondence between the applicant and TSA, and between TSA and other agencies, applicant places of employment, and educational institutions, for the purposes of verifying information provided to TSA by the applicant; (c) the FD-258 Fingerprint card, investigative summaries, and compilations of criminal history record checks, to include administrative records and correspondence incidental to the background investigation process, obtained from various law enforcement authorities; (d) results of written cognitive and noncognitive assessments and information regarding how the volunteer form was rated, prepared by TSA employees or contract psychologists; (e) records regarding the TSA's final decision to accept or reject volunteers for the FFDO program for suitability or medical reasons, including records prepared by TSA employees, and responses to and results of approved psychological assessments or similar tests administered by TSA; (f) results of telephonic or in-person interviews with program volunteers, including summary recommendations regarding the individual's participation in the program, prepared by TSA employees; (g) records prepared by TSA employees related to the selection or rejection of volunteer applicants (to include records generated as a result of any administrative appeal of TSA's determination to reject an applicant), and records related to recertification and decertification; (h) records prepared by TSA employees related to training, including academic and firearms performance; and (i) records prepared by TSA employees related to requalification and deputation renewal.

Authority for maintenance of the system:

49 U.S.C. 114, 44921.

Purpose(s):

The purpose of this system is to maintain records necessary for the assessment and acceptance of volunteers, and the training, participation and recertification of deputized volunteer pilots of air carriers providing passenger air transportation or intrastate passenger air transportation as Federal law enforcement officers to defend the flight decks of aircraft of such air carriers against acts of criminal violence or air piracy.

Routine uses of records maintained in the system, including categories of users and the purposes of such uses:

(1) To the United States Department of Transportation and its operating administrations when relevant or necessary to (a) ensure safety and security in any mode of transportation; (b) enforce safety- and security-related regulations and requirements; (c) assess and distribute intelligence or law enforcement information related to transportation security; (d) assess and respond to threats to transportation; (e) oversee the implementation and ensure the adequacy of security measures at airports and other transportation facilities; (f) plan and coordinate any actions or activities that may affect transportation safety and security or the operations of transportation operators; or (g) the issuance, maintenance, or renewal of a license, certificate, contract, grant, or other benefit.

(2) To the appropriate Federal, State, local, tribal, territorial, foreign, or international agency responsible for investigating, prosecuting, enforcing, or implementing a statute, rule, regulation, or order, where TSA becomes aware of an indication of a violation or potential violation of civil or criminal law or regulation.

(3) To contractors, grantees, experts, consultants, or volunteers when necessary to perform a function or service related to this system of records for which they have been engaged. Such recipients are required to comply with the Privacy Act, 5 U.S.C. 552a, as amended.

(4) To a Federal, State, local, tribal, territorial, foreign, or international agency, in response to queries regarding persons who may pose a risk to transportation or national security; a risk of air piracy or terrorism or a threat to airline or passenger safety; or a threat to aviation safety, civil aviation, or national security.

(5) To the Department of State and other Intelligence Community agencies to further the mission of those agencies relating to persons who may pose a risk to transportation or national security; a risk of air piracy or terrorism or a threat to airline or passenger safety; a threat to aviation safety, civil aviation, or national security.

(6) To a Federal, State, local, tribal, territorial, foreign, or international agency, where such agency has requested information relevant or necessary for the hiring or retention of an individual, or the issuance of a security clearance, license, contract, grant, or other benefit.

(7) To a Federal, State, local, tribal, territorial, foreign, or international agency, if necessary to obtain information relevant to a TSA decision concerning the hiring or retention of an employee, the issuance of a security clearance, license, contract, grant, or other benefit.

(8) To international and foreign governmental authorities in accordance with law and formal or informal international agreement.

(9) To third parties to the extent necessary to obtain information pertinent to the individual's fitness and qualifications for the FFDO program.

(10) To airport operators, aircraft operators, and maritime and land transportation operators about individuals who are their employees, job applicants, or contractors, or persons to whom they issue identification credentials or grant clearances to secured areas in transportation facilities when relevant to such employment, application, contract, or the issuance of such credentials or clearances.

(11) To the Department of Justice (DOJ) in review, settlement, defense, and prosecution of claims, complaints, and lawsuits involving matters over which TSA exercises jurisdiction.

(12) To the DOJ or other Federal agency conducting litigation or in proceedings before any court, adjudicative or administrative body, when: (a) TSA, or (b) any employee of TSA in his/her official capacity, or (c) any employee of TSA in his/her individual capacity where DOJ or TSA has agreed to represent the employee, or (d) the United States or any agency thereof, is a party to the litigation or has an interest in such litigation, and TSA determines that the records are both relevant and necessary to the litigation and the use of such records is compatible with the purpose for which TSA collected the records.

(13) To a congressional office from the record of an individual in response to an inquiry from that congressional office made at the request of the individual.

(14) To the National Archives and Records Administration or General Services Administration in records management inspections being conducted under the authority of 44 U.S.C. 2904 and 2906.

(15) To the Attorney General of the United States or his/her official designee, when information indicates that an individual meets any of the disqualifications for receipt, possession, shipment, or transport of a firearm under the Brady Handgun Violence Prevention Act. In case of a dispute concerning the validity of the information provided by TSA to the Attorney General, or his/her designee, it shall be a routine use of the information in this system of records to furnish records or information to the national Background Information Check System, established by the Brady Handgun Violence Prevention Act, as may be necessary to resolve such dispute.

Disclosure to consumer reporting agencies:

None.

Policies and practices for storing, retrieving, accessing, retaining, and disposing of records in the system:

Storage:

Records are maintained on paper and in computer-accessible storage media. Records are also stored on microfiche and roll microfilm.

Retrievability:

Records are retrieved by name, address, and social security account number or other assigned tracking identifier of the individual on whom the records are maintained.

Safeguards:

Information in this system is safeguarded in accordance with applicable laws, rules and policies. All records are protected from unauthorized access through appropriate administrative, physical, and technical safeguards. These safeguards include restricting access to authorized personnel who have a need-to-know; using locks, alarm devices, and passwords; and encrypting data communications. TSA file areas are locked after normal duty hours and security personnel protect the facilities from the outside.

Retention and disposal:

National Archives and Records Administration approval is pending for the records in this system.

System managers and address:

Director of the Credentialing Program Office, TSA Headquarters, East Tower, 11th Floor, 601 S. 12th Street, Arlington, VA 22202-4220. FFDO Program Manager, Office of Training and Quality Performance, TSA Headquarters, East Tower, 12th Floor, TSA-12, TQP, 601 S. 12th Street, Arlington, VA 22202-4220.

Notification procedure:

To determine whether this system contains records relating to you, write to the System Managers identified above.

Record access procedures:

Same as “Notification Procedures” above. Provide your full name and a description of information that you seek, including the time frame during which the record(s) may have been generated. Individuals requesting access must comply with the Department of Homeland Security Privacy Act regulations on verification of identity (6 CFR 5.21(d)).

Contesting record procedures:

Same as “Notification Procedure,” and “Record Access Procedures” above.

Record source categories:

Information maintained in this system is primarily obtained from the FFDO volunteer form or derived from information the applicant supplied, reports from medical personnel on physical and psychological results of examinations, training records, and law enforcement and intelligence agency record systems, and individuals interviewed as part of the background investigation.

Exemptions claimed for the system:

Portions of this system are exempt under 5 U.S.C. 552a(k)(1), (k)(2) and (k)(6).

Issued in Arlington, Virginia, on August 8, 2003.
Susan T. Tracey,
Deputy Chief Administrative Officer.

[FR Doc. 03-20925 Filed 8-15-03; 8:45 am]

BILLING CODE 4910-62-P